DEPARTMENT OF TRANSPORTATION

Federal Aviation Administration

14 CFR Part 71

[Docket No. FAA-2025-1763; Amendment No. 71-57]

RIN 2120-AA66

Airspace Designations; Incorporation by Reference

AGENCY: Federal Aviation Administration (FAA), DOT.

ACTION: Final rule.

SUMMARY: This action amends 14 CFR part 71 relating to airspace designations to reflect the approval by the Director of the Federal Register of the incorporation by reference of FAA Order JO 7400.11K, Airspace Designations and Reporting Points. This action also explains the procedures the FAA will use to amend the listings of Class A, B, C, D, and E airspace areas; air traffic service routes; and reporting points incorporated by reference.

DATES: This final rule is effective September 15, 2025, through September 15, 2026. The incorporation by reference of FAA Order JO 7400.11K is approved by the Director of the Federal Register as of September 15, 2025, through September 15, 2026.

ADDRESSES: A copy of this final rule, and all background material may be viewed online at www.regulations.gov using the FAA Docket number. Electronic retrieval help and guidelines are available on the website. It is available 24 hours each day, 365 days each year.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Sarah A. Combs, Rules and Regulations Group, Policy Directorate, Federal Aviation Administration, 600 Independence Avenue SW, Washington, DC 20597; telephone: (202) 267-8783.

SUPPLEMENTARY INFORMATION:

History

FAA Order JO 7400.11J, Airspace Designations and Reporting Points, effective September 15, 2024, listed Class A, B, C, D and E airspace areas; air traffic service routes; and reporting points. Due to the length of these descriptions, the FAA requested approval from the Office of the Federal Register to incorporate the material by reference in the Federal Aviation Regulations § 71.1, effective September 15, 2024, through September 15, 2025. During the incorporation by reference period, the FAA processed all proposed changes of the airspace listings in FAA Order JO 7400.11J in full text as proposed rule documents in the Federal Register, unless there was good cause to forego notice and comment. Likewise, all amendments of these listings were published in full text as final rules in the Federal Register. This rule reflects the periodic integration of these final rule amendments into a revised edition of FAA Order JO 7400.11K, Airspace Designations and Reporting Points. The Director of the Federal Register has approved the incorporation by reference of FAA Order JO 7400.11K in section 71.1, as of September 15, 2025, through September 15, 2026. This rule also explains the procedures the FAA will use to amend the airspace designations incorporated by reference in part 71. This rule also updates §§ 71.5, 71.15, 71.31, 71.33, 71.41, 71.51, 71.61, 71.71, and 71.901 to reflect the incorporation by reference of FAA Order JO 7400.11K.

Incorporation by Reference

This document incorporates by reference FAA Order JO 7400.11K, Airspace Designations and Reporting Points, dated August 4, 2025, and effective September 15, 2025, in § 71.1. FAA Order JO 7400.11K is publicly available as listed in the ADDRESSES section of this final rule. FAA Order JO 7400.11K lists Class A, B, C, D, and E airspace areas, air traffic service routes, and reporting points.

The Rule

This action amends 14 CFR part 71 to reflect the approval by the Director of the Federal Register of the incorporation by reference of FAA Order JO 7400.11K, effective September 15, 2025, through September 15, 2026. During the incorporation by reference period, the FAA will continue to process all proposed changes of the airspace listings in FAA Order JO 7400.11K in full text as proposed rule documents in the Federal Register, unless there is good cause to forego notice and comment. Likewise, all amendments of these listings will be published in full text as final rules in the Federal Register. The FAA will periodically integrate all final rule amendments into a revised edition of FAA Order JO 7400.11 and submit the revised edition to the Director of the Federal Register for approval for incorporation by reference in § 71.1.

FAA Order JO 7400.11, Airspace Designations and Reporting Points is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

2. Amend § 71.1 by revising it to read as follows:

§ 71.1 Applicability.

FAA Order JO 7400.11K, Airspace Designations and Reporting Points, dated August 4, 2025, which lists Class A, B, C, D, and E airspace areas; air traffic service routes; and reporting points, was approved for incorporation by reference (IBR) by the Director of the Federal Register in accordance with 5 U.S.C. 552 (a) and 1 CFR part 51. The approval to incorporate FAA Order JO 7400.11K by reference is effective September 15, 2025, through September 15, 2026. During the incorporation by reference period, proposed changes to the listings of Class A, B, C, D, and E airspace areas; air traffic service routes; and reporting points will be published in full text as proposed rule documents in the Federal Register, unless there is good cause to forego notice and comment. Amendments to the listings of Class A, B, C, D, and E airspace areas; air traffic service routes; and reporting points will be published in full text as final rules in the Federal Register. Periodically, the final rule amendments will be integrated into a revised edition of the Order and submitted to the Director of the Federal Register for approval for incorporation by reference in this section. This IBR material is available for inspection at the Federal Aviation Administration (FAA) and at the National Archives and Records Administration (NARA). Contact the FAA at: Rules and Regulations Group, Federal Aviation Administration, 600 Independence Avenue SW, Washington, DC 20597, (202) 267-8783. An electronic version of FAA Order JO 7400.11K is available on the FAA website at www.faa.gov/air_traffic/publications. Copies of FAA Order JO 7400.11K may be inspected in Docket No. FAA-2025-1763 on www.regulations.gov. For information on the availability of this material at NARA, visit www.archives.gov/federalregister/CFR/IBR-locations or email fr.inspection@nara.gov.

§ 71.5 [Amended]

3. Amend § 71.5 by removing the text “FAA Order JO 7400.11J” and adding, in its place, the text “FAA Order JO 7400.11K”.

§ 71.15 [Amended]

4. Amend § 71.15 by removing the text “FAA Order JO 7400.11J” wherever it appears and adding, in its place, the text “FAA Order JO 7400.11K”.

§ 71.31 [Amended]

5. Amend § 71.31 by removing the text “FAA Order JO 7400.11J” and adding, in its place, the text “FAA Order JO 7400.11K”.

§ 71.33 [Amended]

6. Amend § 71.33(c) by removing the text “FAA Order JO 7400.11J” and adding, in its place, the text “FAA Order JO 7400.11K”.

§ 71.41 [Amended]

7. Amend § 71.41 by removing the text “FAA Order JO 7400.11J” wherever it appears and adding, in its place, the text “FAA Order JO 7400.11K”.

§ 71.51 [Amended]

8. Amend § 71.51 by removing the text “FAA Order JO 7400.11J” wherever it appears and adding, in its place, the text “FAA Order JO 7400.11K”.

§ 71.61 [Amended]

9. Amend § 71.61 is by removing the text “FAA Order JO 7400.11J” wherever it appears and adding, in its place, the text “FAA Order JO 7400.11K”.

§ 71.71 [Amended]

10. Amend § 71.71(b) through (f) by removing the text “FAA Order JO 7400.11J” wherever it appears and adding, in its place, the text “FAA Order JO 7400.11K”.

§ 71.901 [Amended]

11. Amend § 71.901(a) by removing the text “FAA Order JO 7400.11J” and adding, in its place, the text “FAA Order JO 7400.11K”.

Issued in Washington, DC, on August 25, 2025.
Brian Eric Konie,
Acting Manager, Rules and Regulations Group.

[FR Doc. 2025-16493 Filed 8-27-25; 8:45 am]

BILLING CODE 4910-13-P